FEDERAL ELECTION COMMISSION

Sunshine Act Meeting

DATE & TIME: Tuesday, July 10, 2001 at 10:00 a.m.

PLACE: 999 E Street, N.W., Washington, D.C.

STATUS: This meeting will be closed to the public.

ITEMS TO BE DISCUSSED:

Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

DATE & TIME: Thursday, July 12, 2001 at 10:00 a.m.

PLACE: 999 E Street, N.W., Washington, D.C. (Ninth floor).

STATUS: This meeting will be open to the public.

ITEMS TO BE DISCUSSED:

Correction and Approval of Minutes.

Advisory Opinion 2001-09: Kerrey for U.S. Senate by counsel, Robert F. Bauer and Brian G. Svoboda.

Advisory Opinion 2001-10: The Honorable Jesse L. Jackson, Sr. and the Jesse L. Jackson, Jr. for Congress Committee.

Procedures Followed by Administrative Law Team.

Administrative Matters.

PERSON TO CONTACT FOR INFORMATION: Mr. Ron Harris, Press Officer, Telephone: (202) 694-1220.

Mary W. Dove,
Secretary of the Commission.

[FR Doc. 01-17043 Filed 7-3-01; 11:10 am]

BILLING CODE 6715-01-M